FEDERAL ELECTION COMMISSION

Sunshine Act Meeting

AGENCY: Federal Election Commission.

PREVIOUSLY ANNOUNCED DATE AND TIME: Thursday, November 21, 2002, Meeting open to the public. The starting time has been changed to 1 p.m.

The following item has been added to the agenda: FEC Policy Statement: Interim Reporting Procedures.

FOR FURTHER INFORMATION CONTACT: Mr. Ron Harris, Press Officer, Telephone: (202) 694-1220.

Mary W. Dove,
Secretary of the Commission.

[FR Doc. 02-29806 Filed 11-19-02; 3:18 pm]

BILLING CODE 6715-01-M